DEPARTMENT OF COMMERCE

National Institute of Standards and Technology

[Notice 2]

National Fire Codes: Request for Proposals for Revision of Codes and Standards

AGENCY: National Institute of Standards and Technology, Commerce.

ACTION: Notice.

SUMMARY: The National Fire Protection Association (NFPA) proposes to revise some of its fire safety codes and standards and requests proposals from the public to amend existing or begin the process of developing new NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at the above address, (617) 770-3000.

SUPPLEMENTARY INFORMATION:

Background

The National Fire Protection Association (NFPA) develops building, fire, and electrical safety codes and standards. Federal agencies frequently use these codes and standards as the basis for developing Federal regulations concerning fire safety. Often the Office of the Federal Register approves the incorporation by reference of these standards under 5 U.S.C. 552(a) and 1 CFR Part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office.

Each person must include his or her name and address, identify the document and give reasons for the proposal. Proposals received before or by 5:00 PM local time on the closing date indicated would be acted on by the Committee. The NFPA will consider any proposal that it receives on or before the date listed with the codes or standard.

At a later date, each NFPA Technical Committee will issue a report, which will include a copy of written proposals that have been received, and an account of their disposition of each proposal by the NFPA Committee as the Report on Proposals. Each person who has submitted a written proposal will receive a copy of the report.

Dated: July 6, 2000.
Karen H. Brown,
Deputy Director.

NFPA No | Title | Proposal closing date
NFPA 11-1998 | Standard for Low-Expansion Foam | 11/3/2000
NFPA 13-1999 | Standard for the Installation of Sprinkler Systems | 1/5/2001
NFPA 13D-1999 | Standard for the Installation of Sprinkler Systems in One-and Two-Family Dwellings and Manufactured Home | 11/3/2000
NFPA 13R-1999 | Standard for the Installation of Sprinkler Systems in Residential Occupancies up to and Including Four Stories in Height | 11/3/2000
NFPA 17-1998 | Standard for Dry Chemical Extinguishing Systems | 1/5/2001
NFPA 17A-1998 | Standard for Wet Chemical Extinguishing Systems | 1/5/2001
NFPA 20-1999 | Standard for the Installation of Stationary Pumps for Fire Protection | 12/28/2001
NFPA 51B-1999 | Standard for Fire Prevention During Welding, Cutting, and Other Hot Work | 12/28/2001
NFPA 52-1998 | Compressed Natural Gas (CNG) Vehicular Fuel Systems Code | 1/5/2001
NFPA 55-1998 | Standard for the Storage, Use, and Handling of Compressed and Liquefied Gases in Portable Cylinders | 7/6/2001
NFPA 57-1999 | Liquefied Natural Gas (LNG) Vehicular Fuel Systems Code | 1/5/2001
NFPA 61-1999 | Standard for the Prevention of Fires and Dust Explosions in Agricultural and Food Products Facilities | 1/5/2001
NFPA 69-1997 | Standard on Explosion Prevention Systems | 1/5/2001
NFPA 72-1999 | National Fire Alarm Code | 1/5/2001
NFPA 79-1997 | Electrical Standard for Industrial Machinery | 11/10/2000
NFPA 86-1999 | Standard for Ovens and Furnaces | 12/28/2001
NFPA 86C-1999 | Standard for Industrial Furnaces Using a Special Processing Atmosphere | 12/28/2001
NFPA 86D-1999 | Standard for Industrial Furnaces Using Vacuum as an Atmosphere | 12/28/2001
NFPA 97-2000 | Standard Glossary of Terms Relating to Chimneys, Vents, and Heat-Producing Appliances | 7/6/2001
NFPA 101-2000 | Code for Safety to Life from Fire in Building and Structures | 3/30/2001
NFPA 101B-1999 | Code for Means of Egress for Buildings and Structures | 9/15/2000
NFPA 130-2000 | Standard for Fixed Guideway Transit and Passenger Rail Systems | 7/6/2001
NFPA 140-1999 | Standard on Motion Picture and Television Production Studio Soundstages and Approved Production Facilities | 7/6/2001
NFPA 211-2000 | Standard for Chimneys, Fireplaces, Vents, and Solid Fuel-Burning Appliances | 7/6/2001
NFPA 225-P* | Standard for Manufactured Home Sites, Communities, and Setups | 1/5/2001
NFPA 252-1999 | Standard Methods of Fire Tests of Door Assemblies | 12/28/2001
NFPA 260-1998 | Standard Methods of Tests and Classification System for Cigarette Ignition Resistance of Components of Upholstered Furniture | 12/28/2001
NFPA 261-1998 | Standard Method of Test for Determining Resistance of Mock-Up Upholstered Furniture Material Assemblies to Ignition by Smoldering Cigarettes | 12/28/2001
NFPA 262-1999 | Standard Method of Test for Flame Travel and Smoke of Wires and Cables for Use in Air-Handling Spaces | 7/6/2001
NFPA 265-1998 | Standard Methods of Fire Tests for Evaluating Room Fire Growth Contribution of Textile Wall Coverings | 1/5/2001
NFPA 272-1999 | Standard Method of Test for Heat and Visible Smoke Release Rates for Upholstered Furniture Components or Composites and Mattresses Using an Oxygen Consumption Calorimeter | 7/6/2001
NFPA 285-1998 | Standard Method of Test for the Evaluation of Flammability Characteristics of Exterior Non-Load-Bearing Wall Assemblies Containing Combustible Components Using the Intermediate-Scale, Multistory Test Apparatus | 12/28/2001
NFPA 415-1997 | Standard on Airport Terminal Buildings, Fueling Ramp Drainage, and Loading Walkways | 1/5/2001
NFPA 480-1998 | Standard for the Storage, Handling and Processing of Magnesium Solids and Powders | 1/5/2001
NFPA 485-1999 | Standard for the Storage, Handling, Processing, and Use of Lithium Metal | 1/5/2001
NFPA 505-1999 | Fire Safety Standard for Powered Industrial Trucks Including Type Designations, Areas of Use, Conversions, Maintenance, and Operation | 1/5/2001
NFPA 651-1998 | Standard for the Machining and Finishing of Aluminum and the Production and Handling of Aluminum Powders | 1/5/2001
NFPA 705-1997 | Recommended Practice for a Field Flame Test for Textiles and Films | 1/5/2001
NFPA 750-2000 | Standard on Water Mist Fire Protection Systems | 7/6/2001
NFPA 1122-1997 | Code for Model Rocketry | 1/5/2001
NFPA 1221-1999 | Standard for the Installation, Maintenance, and Use of Emergency Services Communications Systems | 1/5/2001
NFPA 1402-1997 | Guide to Building Fire Service Training Centers | 7/30/2000
NFPA 1403-1997 | Standard on Live Fire Training Evolutions | 7/30/2000
NFPA 1451-1997 | Standard for a Fire Service Vehicle Operations Training Program | 7/30/2000
NFPA 1561-2000 | Standard on Emergency Services Incident Management System | 7/30/2000
NFPA 1582-2000 | Standard on Medical Requirements for Fire Fighters and Information of Fire Department Physicians | 7/30/2000
NFPA 1911-1997 | Standard for Service Tests of Fire Pump Systems on Fire Apparatus | 1/5/2001
NFPA 1914-1997 | Standard for Testing Fire Department Aerial Devices | 1/5/2001
NFPA 1961-1997 | Standard for Fire Hose | 7/31/2000
NFPA 1999-1997 | Standard on Protective Clothing for Emergency Medical Operations | 12/29/2000
NFPA 5000-P* | NFPA Building Code | 11/9/2000

[FR Doc. 00-17792 Filed 7-12-00; 8:45 am]

BILLING CODE 3510-13-M